DEPARTMENT OF JUSTICE

Notice of Lodging of Proposed Consent Decree Under the Resource Conservation and Recovery Act and Clean Air Act

On November 30, 2022, the Department of Justice lodged a proposed consent decree with the United States District Court for the Eastern District of Wisconsin in the lawsuit entitled United States and State of Wisconsin v. Container Life Cycle Management, LLC, Civil Action No. 22-cv-01423 (E.D. Wis.).

The consent decree addresses Resource Conservation and Recovery Act (RCRA) and Clean Air Act (CAA) violations at defendant Container Life Cycle Management LLC's (CLCM's) container reconditioning facilities in the Milwaukee, Wisconsin, area. CLCM will pay a $1.6 million civil penalty to be split evenly between the United States and the State.

The United States alleged violations of RCRA related to storage and handling of hazardous waste at the company's facilities in St. Francis and Oak Creek, Wisconsin and its then-operating facility in Milwaukee, Wisconsin. The complaint also alleges CAA violations, for, among other things, CLCM's failure to control emissions of volatile organic compounds as required by the EPA-approved Wisconsin state implementation plan.

To address alleged RCRA violations, the consent decree requires CLCM to implement a container management plan, or CMP, for a two-year period. The CMP provides for storage of heavy and non-empty containers in RCRA-compliant hazardous waste storage areas. Certain reporting requirements continue beyond the initial two-year period.

To address CAA violations, CLCM must continuously operate a previously installed regenerative thermal oxidizer, in order to control air emissions of volatile organic compounds at the St. Francis facility. It will also construct additional emissions capture systems within the St. Francis facility. At the Oak Creek facility, CLCM must install and continuously operate a new digital data recorder to record the temperature of the drum reclamation furnace afterburner, and maintain an afterburner temperature at or above 1,650 degrees. Finally, CLCM will be required to conduct performance testing at both the St. Francis and Oak Creek facilities.

The publication of this notice opens a period for public comment on the consent decree. Comments should be addressed to the Assistant Attorney General, Environment and Natural Resources Division, and should refer to United States and State of Wisconsin v. Container Life Cycle Management, LLC, D.J. Ref. No. 90-7-1-11802/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree, including all exhibits, upon written request and payment of reproduction costs. Please mail your request and payment to: Consent Decree Library, U.S. DOJ—ENRD, P.O. Box 7611, Washington, DC 20044-7611.

Please enclose a check or money order for $39.75 (25 cents per page reproduction cost) payable to the United States Treasury. For a paper copy without the exhibits and signature pages, the cost is $15.50.

Patricia McKenna,
Assistant Section Chief, Environmental Enforcement Section, Environment and Natural Resources Division.

[FR Doc. 2022-26502 Filed 12-5-22; 8:45 am]

BILLING CODE 4410-15-P